DEPARTMENT OF COMMERCE

National Oceanic and Atmospheric Administration

Approval of a Boundary Expansion for the Narragansett Bay National Estuarine Research Reserve

AGENCY: Office for Coastal Management, National Ocean Service, National Oceanic and Atmospheric Administration, Department of Commerce.

ACTION: Notice of approval; notice of availability.

SUMMARY: In accordance with the Coastal Zone Management Act and its implementing regulations, notice is hereby given that NOAA's Office for Coastal Management approves a 103-acre, one parcel boundary expansion for the Narragansett Bay National Estuarine Research Reserve in Prudence Island, Rhode Island. Pursuant to the National Environmental Policy Act, NOAA prepared a draft environmental assessment (draft EA) to analyze the effects of the requested expansion and solicited public comment on the draft EA. NOAA determined that the boundary expansion would not have significant environmental effects. Therefore, after considering the comments it received, NOAA issued a final environmental assessment and finding of no significant impact (FONSI).

ADDRESSES: The final environmental assessment and FONSI can be downloaded or viewed at coast.noaa.gov/czm/compliance/. The documents are also available by sending a written request to the point of contact identified below (see FOR FURTHER INFORMATION CONTACT).

FOR FURTHER INFORMATION CONTACT: Betsy Nicholson of NOAA's Office for Coastal Management, by email at betsy.nicholson@noaa.gov, phone at (339) 234-6965 (Google Voice), or mail at 55 Great Republic Drive, Gloucester, MA 01930.

Authority: 16 U.S.C. 1451 et seq.; 42 U.S.C. 4321 et seq.; 15 CFR 921.33.

Keelin S. Kuipers,
Deputy Director, Office for Coastal Management, National Ocean Service, National Oceanic and Atmospheric Administration.

[FR Doc. 2024-10462 Filed 5-13-24; 8:45 am]

BILLING CODE 3510-08-P